FEDERAL COMMUNICATIONS COMMISSION

Notice of Public Information Collection(s) Being Reviewed by the Federal Communications Commission

September 26, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 4, 2001. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collection(s), contact Les Smith at 202-418-0217 or via the Internet at lesmith@fcc.gov.

SUPPLEMENTARY INFORMATION: OMB Control Number: 3060-0053.

Title: Application for Consent to Transfer of Control of Corporation Holding Station License.

Form Number: FCC Form 703.

Type of Review: Revision of a currently approved collection.

Respondents: Business or other for-profit, Not-for-profit institutions.

Number of Respondents: 40.

Estimated Time Per Response: 36 mins. (0.6 hr.).

Frequency of Response: On occasion reporting requirement.

Total Annual Burden: 24 hrs.

Total Estimated Cost: $2,000.

Needs and Uses: The Communications Act of 1934, as amended, and 47 CFR Part 5.59 of FCC Rules require applicants for Experimental Radio Services to submit FCC 703 when they propose to change, as by transfer of stock ownership, the control of a station. This information is used to determine eligibility for licenses, without which, violations of ownership regulations may occur. The FCC has made various revisions to the form: (1) Expiration date was deleted; (2) questions in the fields pertaining to public coast and common carrier Alaska public fixed stations have been removed; (3) fee multiple was deleted; (4) “FOR FCC USE ONLY” field to the right of the “Fee Due” field was removed; (5) fields have been added for the transferee's address and contact information to include an “Attention” field; (6) field labeled “FCC Registration Number (FRN)” was added; (7) Internet URL address was added; (8) references to item numbers have been changed to match the change in the form numbering; (9) instructions pertaining to the use of FCC Forms 159 and 160 have been added; (11) only Experimental Radio Service regular and courier addresses are given; and (12) instructions have been revised to reflect these changes.

OMB Control Number: 3060-0519.

Title: Rules and Regulations Implementing the Telephone Consumer Protection Act of 1991 (CC Docket No. 92-60).

Form Number: N/A.

Type of Review: Extension of a currently approved collection.

Respondents: Business or other for-profit entities.

Number of Respondents: 30,000.

Estimated Time Per Response: 31.2 hrs. (avg).

Total Annual Burden: 936,000 hrs.

Total Annual Cost: None.

Frequency of Response: Recordkeeping; Third party disclosure.

Needs and Uses: 47 CFR parts 64 and 68 contain procedures for avoiding unwanted telephone solicitation to residences and for regulating the use of automatic telephone dialing systems, artificial or prerecorded voice messages, and telephone facsimile machines. The rules prohibit prerecorded message calls to residences absent an emergency or the prior express consent of the called party. Telephone solicitors must maintain and use company-specific lists of residential subscribers who request not to receive further telephone calls (company-specific “do-not-call” lists). Moreover, telephone solicitors must have a written policy for maintaining do-not-call lists, are responsible for informing and training their personnel to use these lists, must identify themselves to called parties, and have basic identifying information included in telephone facsimile transmissions.

OMB Control Number: 3060-0653.

Title: Consumer Information—Posting by Aggregators, Sections 64.703(b) and (c).

Form Number: N/A.

Type of Review: Extension of a currently approved collection.

Respondents: Business or other for-profit entities.

Number of Respondents: 56,200.

Estimated Time Per Response: 3.7 hrs. (avg).

Total Annual Burden: 206,566 hrs.

Total Annual Costs: None.

Frequency of Response: On occasion reporting requirements; Third party disclosure.

Needs and Uses: As required by 47 U.S.C. Section 226(c)(1)(A), 47 CFR Section 64.703(b) provides that aggregators (providers of telephone to the public or transient users) must post in writing, on or near such phones, information about presubscribed operator services, rates, carrier access, and the FCC address to which consumers may direct complaints. Section 64.703(c) establishes a 30-day outer limit for updating the posted consumer information when an aggregator has changed the presubscribed operator service provider. Consumers can use this information to determine whether they wish to use the services of the identified operator service provider.

OMB Control Number: 3060-0848.

Title: Deployment of Wireline Services Offering Advanced Telecommunications Capability, CC Docket No. 98-147.

Form Number: N/A.

Type of Review: Extension of a currently approved collection.

Respondents: Business or other for-profit entities.

Number of Respondents: 1,750.

Estimated Time Per Response: 94.63 hrs. (avg).

Total Annual Burden: 165,600 hrs.

Total Annual Costs: None.

Frequency of Response: Recordkeeping; On occasion and annual reporting requirements; Third party Disclosure.

Needs and Uses: In the Fourth Report and Order, CC Docket No. 98-147, the FCC requires a certification of interstate traffic from certain collocating carriers and the provision of a detailed description of available collocation space from incumbent local exchange carriers in certain circumstances. The requirements implement Section 706 of the Communications Act of 1934, as amended, to promote deployment of advanced services without significantly degrading the performance of other services.

OMB Control Number: 3060-0823.

Title: Pay Telephone Reclassification Memorandum Opinion and Order, CC Docket No. 96-128.

Form Number: N/A.

Type of Review: Extension of a currently approved collection.

Respondents: Business or other for-profit entities

Number of Respondents: 400.

Estimated Time Per Response: 111.75 hrs. (avg).

Total Annual Burden: 44,700 hrs.

Total Annual Cost: $480,000.

Frequency of Response: Recordkeeping; On occasion; Quarterly; Monthly; Annually; and One-time reporting requirements; Third Party Disclosure.

Needs and Uses: In the Memorandum Opinion and Order (MO&O) issued in CC Docket No. 96-128, the Common Carrier Bureau clarified requirements established in the Payphone Orders for the provision of payphone-specific coding digits by local exchange carriers (LECs) and payphone service providers (PSPs) to interexchange carriers (IXCs). The MO&O clarified that only FLEX ANI complies with the requirements; required that LECs file tariffs to reflect FLEX ANI as a nonchargeable option to IXCs; required that LECs file tariffs to recover costs associated with implementing FLEX ANI; required that LEC provide IXCs information on payphones that provide payphone-specific coding digits for smart and dumb payphones; required that LECs provide IXCs and PSPs information on where FLEX ANI is available now and when it is to be scheduled in the future; and granted permission and certain waivers. The information disclosure rules and policies governing the payphone industry implement section 276 of the Communications Act of 1934, as amended.

Federal Communications Commission.
Magalie Roman Salas,
Secretary.

[FR Doc. 01-24958 Filed 10-4-01; 8:45 am]

BILLING CODE 6712-01-P